DEPARTMENT OF TRANSPORTATION

Federal Aviation Administration

14 CFR Part 39

[Docket No. FAA-2009-0476; Directorate Identifier 2008-NM-188-AD; Amendment 39-16006; AD 2009-18-10]

RIN 2120-AA64

Airworthiness Directives; Boeing Model 707 Airplanes, and Model 720 and 720B Series Airplanes

AGENCY: Federal Aviation Administration (FAA), Department of Transportation (DOT).

ACTION: Final rule.

SUMMARY: The FAA is superseding an existing airworthiness directive (AD), which applies to certain Boeing Model 707 airplanes, and Model 720 and 720B series airplanes. The existing AD currently requires repetitive detailed inspections to detect cracks and corrosion on any existing repairs and at certain body stations (STA) of the visible surfaces of the wing to body terminal fittings including the web, flanges, and ribs; and applicable related investigative and corrective actions. This new AD retains the requirements of the existing AD and requires repetitive ultrasonic inspections to detect any stress corrosion cracks within the outboard flange of the left and right body terminal fittings at STA 820, and related investigative and corrective actions if necessary. This AD also provides an optional terminating action for the repetitive inspections. This AD also adds two airplanes to the applicability. This AD results from reports of cracks found in the wing to body terminal fittings during routine inspections. We are issuing this AD to detect and correct cracks and corrosion in the body terminal fittings above and below the floor, which could cause loss of support for the wing and could adversely affect the structural integrity of the airplane.

DATES: This AD becomes effective October 14, 2009.

The Director of the Federal Register approved the incorporation by reference of a certain publication listed in the AD as of October 14, 2009.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Berhane Alazar, Aerospace Engineer, Airframe Branch, ANM-120S, FAA, Seattle Aircraft Certification Office, 1601 Lind Avenue, SW., Renton, Washington 98057-3356; telephone (425) 917-6577; fax (425) 917-6590.

SUPPLEMENTARY INFORMATION:

Discussion

The FAA issued a notice of proposed rulemaking (NPRM) to amend 14 CFR part 39 to include an AD that supersedes AD 2008-17-10, amendment 39-15648 (73 FR 50703, August 28, 2008). The existing AD applies to certain Boeing Model 707 airplanes, and Model 720 and 720B series airplanes. That NPRM was published in the Federal Register on May 26, 2009 (74 FR 24715). That NPRM proposed to continue to require detailed inspections and applicable related investigative and corrective actions. That NPRM also proposed to require repetitive ultrasonic inspections to detect any stress corrosion cracks within the outboard flange of the left and right body terminal fittings at station (STA) 820, and related investigative and corrective actions if necessary. That NPRM also proposed an optional terminating action for the repetitive inspections. That NPRM also proposed to add two airplanes to the applicability.

Comments

We provided the public the opportunity to participate in the development of this AD. We have considered the comment that has been received on the NPRM. The commenter concurs with the content of the NPRM.

Conclusion

We have carefully reviewed the available data, including the comment that has been received, and determined that air safety and the public interest require adopting the AD as proposed.

Costs of Compliance

There are about 128 airplanes of the affected design in the worldwide fleet. The following table provides the estimated costs for U.S. operators to comply with this AD.

Estimated Costs
Action | Work hours | Average labor rate per hour | Cost per airplane | Number of U.S.- registered airplanes | Fleet cost
Inspections (required by AD 2008-17-10) | 20 | $80 | $1,600 per inspection cycle | 11 | $17,600 per inspection cycle.
Inspections (new required action) | 20 to 30, depending on group | 80 | $1,600 to $2,400 per inspection cycle | Up to 13 | Up to $31,200 per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-15648 (73 FR 50703, August 28, 2008) and by adding the following new airworthiness directive (AD):

2009-18-10 Boeing: Amendment 39-16006. Docket No. FAA-2009-0476; Directorate Identifier 2008-NM-188-AD.

Effective Date

(a) This AD becomes effective October 14, 2009.

Affected ADs

(b) This AD supersedes AD 2008-17-10, amendment 39-15648.

Applicability

(c) This AD applies to Boeing Model 707-100 long body, -200, -100B long body, and -100B short body series airplanes; Model 707-300, -300B, -300C, and -400 series airplanes; and Model 720 and 720B series airplanes; certificated in any category; as identified in Boeing 707 Alert Service Bulletin A3524, Revision 1, dated September 18, 2008.

Subject

(d) Air Transport Association (ATA) of America Code 57: Wings.

Unsafe Condition

(e) This AD results from new findings of cracks found in the wing to body terminal fittings during routine inspections. We are issuing this AD to detect and correct cracks and corrosion in the body terminal fittings above and below the floor, which could cause loss of support for the wing and could adversely affect the structural integrity of the airplane.

Compliance

(f) You are responsible for having the actions required by this AD performed within the compliance times specified, unless the actions have already been done.

Restatement of Requirements of AD 2008-17-10 With Updated Service Information

Inspections and Corrective Actions

(g) For airplanes identified in Boeing 707 Special Attention Service Bulletin 3524, dated July 18, 2007: Within 24 months after October 2, 2008 (the effective date of AD 2008-17-10), do detailed inspections and applicable related investigative and corrective actions, by accomplishing all the actions specified in the Accomplishment Instructions of Boeing 707 Special Attention Service Bulletin 3524, dated July 18, 2007; or Boeing 707 Alert Service Bulletin A3524, Revision 1, dated September 18, 2008; except as provided by paragraph (h) of this AD. After the effective date of this AD, use only Boeing 707 Alert Service Bulletin A3524, Revision 1, dated September 18, 2008. Repeat the detailed inspections thereafter at intervals not to exceed 24 months. Do all applicable related investigative and corrective actions before further flight.

(h) If any crack or corrosion is found during any inspection required by paragraph (g) of this AD, and Boeing 707 Special Attention Service Bulletin 3524, dated July 18, 2007, or Boeing 707 Alert Service Bulletin A3524, Revision 1, dated September 18, 2008, specifies to contact Boeing for appropriate action: Before further flight, repair the terminal fittings using a method approved in accordance with the procedures specified in paragraph (o) of this AD.

No Information Submission

(i) Although Boeing 707 Special Attention Service Bulletin 3524, dated July 18, 2007; and Boeing 707 Alert Service Bulletin A3524, Revision 1, dated September 18, 2008; specify to submit information to the manufacturer, this AD does not include that requirement.

New Requirements of This AD

Inspections

(j) For Group 1 and Group 2 airplanes identified in Boeing 707 Alert Service Bulletin A3524, Revision 1, dated September 18, 2008, on which a modification or repair was done in accordance with Boeing 707/720 Service Bulletin 2912, Revision 1, dated March 13, 1970: At the later of the times specified in paragraphs (j)(1) and (j)(2) of this AD, do an ultrasonic inspection to detect any stress corrosion cracks within the outboard flange of the left and right body terminal fittings at body station (STA) 820, and all applicable related investigative and corrective actions, by accomplishing all the actions specified in the Accomplishment Instructions of Boeing 707 Alert Service Bulletin A3524, Revision 1, dated September 18, 2008, except as provided by paragraph (m) of this AD. Repeat the ultrasonic inspection thereafter at intervals not to exceed 24 months or 2,000 flight cycles, whichever occurs first. Do all applicable related investigative and corrective actions before further flight.

(1) Within 24 months or 2,000 flight cycles after the effective date of this AD, whichever occurs first.

(2) Within 24 months or 2,000 flight cycles after doing the repair or modification, whichever occurs first.

(k) For Group 3 and Group 4 airplanes identified in Boeing 707 Alert Service Bulletin A3524, Revision 1, dated September 18, 2008: Within 2,000 flight cycles or 24 months after the effective date of this AD, whichever occurs first, do an ultrasonic inspection to detect any stress corrosion cracks within the outboard flange of the left and right body terminal fittings at STA 820, and all applicable corrective actions, by accomplishing all the actions specified in the Accomplishment Instructions of Boeing 707 Alert Service Bulletin A3524, Revision 1, dated September 18, 2008, except as provided by paragraph (m) of this AD. Repeat the ultrasonic inspection thereafter at intervals not to exceed 24 months or 2,000 flight cycles, whichever occurs first. Do all applicable corrective actions before further flight.

(l) For Group 4 airplanes identified in Boeing 707 Alert Service Bulletin A3524, Revision 1, dated September 18, 2008: Within 24 months after the effective date of this AD, do detailed inspections for corrosion and cracking of the body terminal fittings at STA 820, and all applicable related investigative and corrective actions, by accomplishing all the actions specified in the Accomplishment Instructions of Boeing 707 Alert Service Bulletin A3524, Revision 1, dated September 18, 2008, except as provided by paragraph (m) of this AD. Repeat the detailed inspections thereafter at intervals not to exceed 24 months. Do all applicable related investigative and corrective actions before further flight.

Exception to Certain Procedures

(m) If any crack or corrosion is found during any inspection required by paragraph (j), (k), or (l) of this AD, and Boeing 707 Alert Service Bulletin A3524, Revision 1, dated September 18, 2008, specifies to contact Boeing for appropriate action: Before further flight, repair the terminal fittings using a method approved in accordance with the procedures specified in paragraph (o) of this AD.

Note 1: Boeing 707 Alert Service Bulletin A3524, Revision 1, dated September 18, 2008, refers to Boeing 707/720 Service Bulletin 2912, Revision 1, dated March 13, 1970, as an additional source of guidance for doing certain inspections and repairs.

Optional Terminating Action

(n) Replacing a body terminal fitting with a fitting made from 7075-T73 material, using a method approved in accordance with the procedures specified in paragraph (o) of this AD, terminates the repetitive inspections required by this AD for that fitting only.

Alternative Methods of Compliance (AMOCs)

(o)(1) The Manager, Seattle Aircraft Certification Office (ACO), FAA, has the authority to approve AMOCs for this AD, if requested using the procedures found in 14 CFR 39.19. Send information to ATTN: Berhane Alazar, Aerospace Engineer, Airframe Branch, ANM-120S, FAA, Seattle Aircraft Certification Office, 1601 Lind Avenue, SW., Renton, Washington 98057-3356; telephone (425) 917-6577; fax (425) 917-6590; or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(p) You must use Boeing 707 Alert Service Bulletin A3524, Revision 1, dated September 18, 2008, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 18, 2009.
Stephen P. Boyd,
Acting Manager, Transport Airplane Directorate, Aircraft Certification Service.

[FR Doc. E9-20838 Filed 9-8-09; 8:45 am]

BILLING CODE 4910-13-P